GENERAL SERVICES ADMINISTRATION

[OMB Control No. 3090-0320; Docket No. 2022-0001; Sequence No. 15]

Information Collection; General Services Administration Acquisition Regulation; Construction Manager as Constructor (CMc)

AGENCY: Office of Acquisition Policy, General Services Administration (GSA).

ACTION: Notice of request for public comments.

SUMMARY: Under the provisions of the Paperwork Reduction Act, the Regulatory Secretariat Division will be submitting to the Office of Management and Budget (OMB) a request to review and approve an extension of a previously approved information collection requirement regarding information collection 3090-0320 Construction Manager as Constructor (CMc).

DATES: Submit comments on or before: November 7, 2022.

ADDRESSES: Submit comments identified by Information Collection 3090-0320 via http://www.regulations.gov.

Submit comments via the Federal eRulemaking portal by searching the OMB control number. Select the link “Comment” that corresponds with information collection “3090-0320, Construction Manager as Constructor”. Follow the instructions provided on the screen. Please include your name, company name (if any), and “Information Collection 3090-0320, Construction Manager as Constructor” on your attached document. If your comment cannot be submitted using regulations.gov, call or email the points of contact in the FOR FURTHER INFORMATION CONTACT section of this document for alternate instructions.

Instructions: Please submit comments only and cite Information Collection 3090-0320, Construction Manager as Constructor, in all correspondence related to this collection. Comments received generally will be posted without change to regulations.gov, including any personal and/or business confidential information provided. To confirm receipt of your comment(s), please check regulations.gov, approximately two-to-three days after submission to verify posting.

FOR FURTHER INFORMATION CONTACT: Mr. Marten Wallace, General Services Acquisition Policy Division, GSA, by phone at 202-286-5807 or by email at marten.wallace@gsa.gov.

SUPPLEMENTARY INFORMATION:

A. Purpose

The General Services Administration Acquisition Regulation (GSAR) 552.236-79, Construction-Contractor-as-Constructor, requires the contractor to submit proposals to establish the final estimated cost of the work, to convert the contract to a firm-fixed-price, and to determine the final settlement.

The GSAR coverage on construction contracts, including clauses for solicitations and resultant contracts, clarifies, updates, and incorporates existing guidance on the construction-manager-as-constructor (CMc) project delivery method.

The CMc refers to a project management and contracting technique that is one of three predominant methods used for acquiring construction services by GSA. The other two methods are design-bid-build and design-build.

The information is used by leasing contracting officers to evaluate lease proposals and negotiate lease contract terms and conditions in a competitive or non-competitive environment. GSA would be unable to assess readily and equitably offers fairly and competitively if they were not allowed to collect data required in the information collection.

B. Annual Reporting Burden

Total public reporting burden for this collection of information is estimated to average 400 total hours ($33,004) annually, including the time for reviewing instructions, searching existing data sources, gathering, and maintaining the data needed, and completing and reviewing the collection of information. The estimated burden hours to the public for the below clauses are as follows:

GSAR 552.236-79, Construction-Contractor-as-Constructor, requires the contractor to submit proposals to establish the final estimated cost of the work, to convert the contract to a firm-fixed-price, and to determine the final settlement.

Respondents: 5.

Responses per Respondent: 1.

Total Annual Responses: 10.

Hours per Response: 40.

Total Response Burden Hours: 400.

Cost per Hour: $82.51.

Estimated Cost Burden to the Public: $33,004.

GSAR 552.236-80, Accounting Records, contains a recordkeeping requirement that is subject to the Paperwork Reduction Act (44 U.S.C. 3501, et seq.). The clause requires the contractor to keep all relevant documents for a period of three years after the final payment. However, the clause does not add burden to what is already estimated for the existing FAR clause at 52.215-2, Audit and Records by a previous information collection (see OMB Control Number 9000-0034).

C. Public Comments

Public comments are particularly invited on: Whether this collection of information is necessary and whether it will have practical utility; whether our estimate of the public burden of this collection of information is accurate and based on valid assumptions and methodology; and ways to enhance the quality, utility, and clarity of the information to be collected.

Obtaining Copies of Proposals: Requesters may obtain a copy of the information collection documents from the GSA Regulatory Secretariat Division, by calling 202-501-4755 or emailing GSARegSec@gsa.gov. Please cite OMB Control No. 3090-0320, Construction Manager as Constructor, in all correspondence.

Jeffrey A. Koses,
Senior Procurement Executive, Office of Acquisition Policy, Office of Government-wide Policy.

[FR Doc. 2022-19377 Filed 9-7-22; 8:45 am]

BILLING CODE 6820-14-P